DEPARTMENT OF ENERGY

Federal Energy Regulatory Commission

Combined Notice of Filings #1

Take notice that the Commission received the following exempt wholesale generator filings:

Docket Numbers: EG23-242-000.

Applicants: Eleven Mile Solar Center, LLC.

Description: Eleven Mile Solar Center, LLC submits Notice of Self-Certification of Exempt Wholesale Generator Status.

Filed Date: 7/27/23.

Accession Number: 20230727-5106.

Comment Date: 5 p.m. ET 8/17/23.

Take notice that the Commission received the following Complaints and Compliance filings in EL Dockets:

Docket Numbers: EL23-84-000; QF18-1454-001; QF18-1455-001; QF18-1456-001.

Applicants: ALLCO FINANCE LIMITED, ALLCO FINANCE LIMITED, ALLCO FINANCE LIMITED, ALLCO FINANCE LIMITED.

Description: Petition for Enforcement Pursuant to Section 210(h) of the Public Utility Regulatory Policies Act of 1978 of Allco Finance Limited.

Filed Date: 7/24/23.

Accession Number: 20230724-5096.

Comment Date: 5 p.m. ET 8/14/23.

Take notice that the Commission received the following electric rate filings:

Docket Numbers: ER10-1427-006; ER10-2917-025; ER10-2922-025; ER11-2383-021; ER12-161-027; ER14-25-022; ER14-1964-017; ER16-287-011; ER17-482-011; ER19-529-012; ER19-1074-012; ER19-1075-012; ER20-1447-007; ER20-2028-002; ER22-192-006; ER22-1010-004.

Applicants: TerraForm IWG Acquisition Holdings II, LLC, Evolugen Trading and Marketing LP, Bitter Ridge Wind Farm, LLC, Brookfield Energy Marketing U.S. LLC, Brookfield Renewable Energy Marketing U.S. LLC, Brookfield Energy Marketing Inc., Brookfield Renewable Trading and Marketing LP, BREG Aggregator LLC, BIF III Holtwood LLC, BIF II Safe Harbor Holdings, LLC, Prairie Breeze Wind Energy LLC, Bishop Hill Energy LLC, Safe Harbor Water Power Corporation, Hawks Nest Hydro LLC, Brookfield Power Piney & Deep Creek LLC, Brookfield Energy Marketing LP.

Description: Notice of Non-Material Change in Status of Brookfield Energy Marketing LP, et al.

Filed Date: 7/26/23.

Accession Number: 20230726-5127.

Comment Date: 5 p.m. ET 8/16/23.

Docket Numbers: ER23-2494-000.

Applicants: ISO New England Inc., The Narragansett Electric Company.

Description: § 205(d) Rate Filing: ISO New England Inc. submits tariff filing per 35.13(a)(2)(iii): ISO-NE/The Narragansett Electric Company; Second Revised LGIA-ISONE/NEP-15-03 to be effective 1/1/2023.

Filed Date: 7/26/23.

Accession Number: 20230726-5136.

Comment Date: 5 p.m. ET 8/16/23.

Docket Numbers: ER23-2495-000.

Applicants: Southwest Power Pool, Inc.

Description: § 205(d) Rate Filing: 3317R2 WAPA & East River Electric Power Interconnection Agr to be effective 7/26/2023.

Filed Date: 7/27/23.

Accession Number: 20230727-5005.

Comment Date: 5 p.m. ET 8/17/23.

Docket Numbers: ER23-2496-000.

Applicants: Niagara Mohawk Power Corporation, New York Independent System Operator, Inc.

Description: § 205(d) Rate Filing: Niagara Mohawk Power Corporation submits tariff filing per 35.13(a)(2)(iii): Niagara Mohawk 205: E&P Agreement between NMPC and Sithe SA2791 to be effective 7/12/2023.

Filed Date: 7/27/23.

Accession Number: 20230727-5054.

Comment Date: 5 p.m. ET 8/17/23.

Docket Numbers: ER23-2497-000.

Applicants: Midcontinent Independent System Operator, Inc., Great River Energy.

Description: § 205(d) Rate Filing: Midcontinent Independent System Operator, Inc. submits tariff filing per 35.13(a)(2)(iii): 2023-07-27_SA 3741 GRE-MRES-WMMPA Amendment No. 1 to be effective 9/26/2023.

Filed Date: 7/27/23.

Accession Number: 20230727-5068.

Comment Date: 5 p.m. ET 8/17/23.

Docket Numbers: ER23-2498-000.

Applicants: PJM Interconnection, L.L.C.

Description: § 205(d) Rate Filing: Original ISA, Service Agreement No. 7012; Queue No. AF1-098 to be effective 6/27/2023.

Filed Date: 7/27/23.

Accession Number: 20230727-5082.

Comment Date: 5 p.m. ET 8/17/23.

Docket Numbers: ER23-2499-000.

Applicants: Southwest Power Pool, Inc.

Description: § 205(d) Rate Filing: Revisions to Extend Tariff Administration between SPP and SPA through 12/31/2024 to be effective 7/1/2023.

Filed Date: 7/27/23.

Accession Number: 20230727-5087.

Comment Date: 5 p.m. ET 8/17/23.

Docket Numbers: ER23-2500-000.

Applicants: PJM Interconnection, L.L.C.

Description: § 205(d) Rate Filing: Amendment to ISA, SA No. 5958; Queue No. AC1-074/AC2-075 to be effective 9/26/2023.

Filed Date: 7/27/23.

Accession Number: 20230727-5101.

Comment Date: 5 p.m. ET 8/17/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 27, 2023.
Kimberly D. Bose,
Secretary.

[FR Doc. 2023-16473 Filed 8-1-23; 8:45 am]

BILLING CODE 6717-01-P